COMMISSION ON CIVIL RIGHTS

Agenda and Notice of Public Meeting of the Montana Advisory Committee

Notice is hereby given, pursuant to the provisions of the rules and regulations of the U.S. Commission on Civil Rights, that a meeting of the Montana Advisory Committee to the Commission will convene at 3:30 p.m. and adjourn at 5:30 p.m. on Monday, April 8, 2002, at the Best Western Heritage Inn, 1700 Fox Farm, Great Falls, Montana 59404. The purpose of the meeting is to hold new member orientation and review an update on statewide and local developments regarding Indian education and civil rights issues in the state.

Persons desiring additional information, or planning a presentation to the Committee, should contact, John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, March 15, 2002.
Ivy L. Davis,
Chief, Regional Programs Coordination Unit.

[FR Doc. 02-6858 Filed 3-20-02; 8:45 am]

BILLING CODE 6553-01-P